DEPARTMENT OF TRANSPORTATION

Federal Motor Carrier Safety Administration

Agency Information Collection Activities Under OMB Review: OMB Control No. 2126-NEW (Graduated Commercial Driver's License (CDL) Survey)

AGENCY: Federal Motor Carrier Safety Administration (FMCSA), DOT.

ACTION: Notice; request for comments.

SUMMARY: The FMCSA announces that the Information Collection Request (ICR) described in this notice is being sent to the Office of Management and Budget (OMB) for review and approval. The FMCSA is requesting OMB's approval for a new information collection as described below. The Federal Highway Administration (FHWA) published a Federal Register notice offering a 60-day comment period on this information collection on July 19, 1999 (64 FR 38699). At that time, the Office of Motor Carrier Safety was a part of the Federal Highway Administration (FHWA). Rulemaking, enforcement, and other activities of that former office are now being continued by the FMCSA. The comments that were received are addressed below. We are required to send ICRs to OMB under the Paperwork Reduction Act.

DATES: Please submit comments by October 31, 2001.

ADDRESSES: Send comments to the Office of Information and Regulatory Affairs, Office of Management and Budget, 725 Seventeenth Street NW., Washington, DC 20503, Attention: DOT Desk Officer. We particularly request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICR quickly.

FOR FURTHER INFORMATION CONTACT: Mr. Robert Redmond (202) 366-9579, Office of Safety Programs, State Programs Division (MC-ESS), Federal Motor Carrier Safety Administration, 400 Seventh Street, SW., Washington, DC 20590. Office hours are from 7:30 a.m. to 4 p.m., e.t., Monday through Friday, except Federal holidays.

SUPPLEMENTARY INFORMATION: Title: Graduated Commercial Driver's License (CDL) Survey.

Background: The House Conference on the FY 1996 Department of Transportation and Related Agencies Appropriation Act (Public Law 104-50, H. Rep. 104-286) directed the FHWA to contract with the Transportation Research Institute (TRI) of the American Trucking Associations Foundation, Inc. to perform applied research to address a number of highway safety issues, such as: driver fatigue and alertness; the application of emerging technologies to ensure safety, productivity and regulatory compliance; and commercial driving licensing, training and education. The amount allocated was to be not less than $4 million. A survey of industry opinion pertaining to a graduated CDL is one of these projects under the congressionally mandated cooperative agreement with the TRI.

Section 4019 of the Transportation Equity Act for the 21st Century (Public Law 105-178) directed the Secretary of Transportation to identify the benefits and costs of a graduated CDL system as part of a review of the current CDL testing procedures and to identify methods to improve the testing and licensing standards. The trucking industry alone projects a need for 300,000 new and replacement drivers every year until the turn of the century. In addition to those newly entering the truck-driving field, others are constantly transitioning from one type of commercial motor vehicle operation to another. For example, moving from straight trucks to combinations, from tractor-semis to doubles or even triples, from hauling general commodities to motor vehicles or even hazardous materials, moving from school buses to transit buses or motor coaches, or moving back and forth between various trucks and buses.

A graduated or provisional CDL program might go beyond today's CDL requirements to provide for safer introduction of new drivers into the industry and assure the measured progression of drivers, by proper training and supervision, into more complex driving jobs.

Before considering the recommendation and development of a provisional CDL program, it is necessary to better identify the need for and quantify the potential benefits and costs of such a program. TRI, in cooperation with representatives of all segments of the truck and bus industries, will survey representatives of the motor carrier (truck and bus) industry, drivers, driver training schools, insurance companies, and driver licensing and law enforcement agencies, using approximately 15 short response questions with the ability to add narrative comments, about the need for, benefits of, potential acceptance of, institutional barriers to and practicality of a graduated commercial driver licensing system and the likely improvements in highway safety, employment opportunities and transportation efficiency. The questions for the written survey will be based on information gathered during previously conducted focus group sessions and will include the importance of certain elements in a graduated driver licensing program such as training, driving record, driving experience, age, testing and restrictions.

Over the past two years the survey questionnaire was drafted and received extensive review and comments by FMCSA staff and the Technical Review Committee that are working on this study. This review/comments/revision process was conducted several times until a questionnaire was developed that would accomplish the data collection goals of this study.

The study data will be compiled and statistically evaluated. The results of the evaluation and conclusions will be presented in a final report that will address the potential benefits, costs and feasibility of implementing a graduated or provisional CDL program. The results will be used by the FHWA in evaluating the potential for pilot testing the graduated CDL concept and developing a rulemaking based on the results of the pilot study.

Comments Received: The comments that were received in response to the July 19, 1999, Federal Register notice are addressed as follows:

Margaret O'Donnell: This comment was a request to participate in the survey and was not pertinent to the issue of whether or not there was a need to conduct the survey. Georgia Motor Trucking Association: This comment was in favor of conducting the survey as a way to gauge industry interest in and potential acceptance of a Graduated CDL.

Bill Wetherald: This comment asked what the minimum age for a CDL would be under the Graduated CDL scenario and expressed concern over younger drivers. It did not specifically address the need for a survey.

Association of Publicly Funded Truck Driving Schools: This comment addressed the Association's stand on younger drivers and was not pertinent to the issue of whether or not a survey was needed.

Advocates for Highway and Auto Safety: The Advocates object to this information collection for the following reasons: 1) Because the survey is being administered by TRI; 2) because they feel FMCSA has prejudiced the outcome by mentioning a lower age limit for a CDL in the Federal Register Notice; and, 3) because they believe highway safety groups should be included in the survey population. Each of these concerns will be addressed individually.

The Advocates claim that FMCSA was not legislatively directed to award the graduated CDL study to TRI. In fact, FMCSA was Congressionally directed during FY' 96 to contract with TRI to perform applied research for an amount not less than $4 million to address safety issues of concern such as driver fatigue and alertness; the application of emerging technologies to ensure safety; productivity and regulatory compliance; licensing; and commercial driver training and education. The Graduated CDL survey fulfills part of this mandate.

The Advocates claim that FMCSA has prejudiced the outcome of the survey by mentioning lowering the age for a commercial drivers license in the Federal Register notice. The survey was designed to eliminate any bias as to the age when drivers should be granted a commercial drivers license. The survey asks two questions about age; one being the minimum age at which an applicant should be eligible to receive a graduated CDL and the second being the minimum age at which the holder of a graduated CDL should be eligible to graduate to an unrestricted CDL. Respondents are asked to fill in a blank with the age for both questions. The survey design has been carefully reviewed by the FMCSA Contracting Officer's Technical Representative (COTR) and the Technical Review Committee (TRC) for the study to ensure that there are no conflicts of interest concerning any of the survey questions, including those about age. Both the COTR and the TRC will be closely involved in the data analysis and final report to further insure no conflict of interest regarding any of the factors involved in a Graduated CDL.

Lastly, the Advocates object to the fact that no public safety groups are included in the survey population. In fact, Advocates is one of five public safety groups that are to be included in the survey population.

E. Robert Barr: This comment addresses implementation of a Graduated CDL with regards to younger drivers and their training. It does not specifically address the need to conduct the survey and therefore is not pertinent to this submittal.

Driver Training & Development Alliance: This comment is in support of conducting a survey on the concept of a Graduated CDL as a first step in the process of determining the viability of such a system.

Tri-Bell Industries: This comment is in favor of a Graduated CDL program for reasons of supplying the industry with better-trained drivers. However, it does not specifically address whether or not a survey should be conducted, and therefore is not pertinent to this information collection.

International Brotherhood of Teamsters: The IBT objects to the conduct of the survey because they have not been given the opportunity to review the survey instrument or survey plan. The intent of this first notice was simply to ask whether or not an information collection should take place. Once a survey package is submitted to OMB, notice will be published giving IBT an opportunity to comment on the survey plan and instrument.

American Automobile Association: This comment supports conduct of the Graduated CDL survey as a “first step in exploring the benefits of a graduated CDL system as a highway safety measure.”

Insurance Institute For Highway Safety: This comment requests that additional parties be added to the survey population—namely nonprofit safety groups and knowledgeable university researchers. The survey plan for the Graduated CDL survey does in fact include the following highway safety groups in its survey population: AAA; Insurance Institute for Highway Safety; National Safety Council; Advocates for Highway and Auto Safety; and Citizens for Reliable and Safe Highways. This survey is intended to gauge the need for, and potential acceptance of, a Graduated CDL by the motor carrier industry. The survey population has been expanded to include those who would be directly affected by a Graduated CDL—law enforcement, licensing agencies, driver training schools, insurance companies and associations representing highway safety concerns. However, since the intent of the survey is expressly stated for the motor carrier industry and safety-related groups, we do not believe, as the Insurance Institute does, that “knowledgeable university researchers” should also be included in the survey population.

At such time as the FMCSA determines that designing a pilot test of a Graduated CDL scenario is needed, such notice will be appropriate for university researchers to comment on the design of that study.

California Department of Motor Vehicles: This comment supports a survey to “determine the need and feasibility of a graduated commercial driver license (CDL).”

Respondents: The respondents to the planned survey will include approximately 2,000 selected representatives of the motor carrier (truck and bus) industry, drivers, driver training schools, insurance companies, and driver licensing and law enforcement agencies.

Average Burden Per Response: The estimated average burden per response is 15 minutes. This includes the time needed for reading the survey instructions, searching existing data sources, completing the survey instrument and returning the information by mail or transmission by facsimile.

Estimated Total Annual Burden: The estimated total annual burden is 500 hours.

Frequency: The survey will be conducted once.

Authority: The Paperwork Reduction Act of 1995; 44 U.S.C. Chapter 35, as amended; and 49 CFR 1.73.

Issued on: September 25, 2001.
Stephen E. Barber,
Associate Administrator for Enforcement and Program Delivery.

[FR Doc. 01-24433 Filed 9-28-01; 8:45 am]

BILLING CODE 4910-EX-P